DEPARTMENT OF JUSTICE

Notice of Lodging of Consent Decree Under the Clean Water Act

Notice is hereby given that on December 14, 2011, a proposed Consent Decree in United States of America v. International Hospitality Associates, S. en C. por A. (SE.), et al., Civil Action No. 3:11-cv-02200, was lodged with the United States District Court for the District of Puerto Rico.

The proposed Consent Decree will settle claims of the United States (on behalf of the Environmental Protection Agency) against Settling Defendants, International Hospitality Associates S. en C. Por A. (SE.) and International Hospitality Associates, Inc., for violations of Sections 301, 308, and 402(p) of the Federal Water Pollution Control Act, as amended (the “Clean Water Act” or the “Act”), 33 U.S.C. 1311, 1318 & 1342(p), and implementing regulations. See 40 C.F.R. 122.2. Alleged violations against Settling Defendants include engaging in construction activities without obtaining coverage under the General Permit for Storm Water Discharges from Construction Activities (“CGP”), discharging pollutants into the waters of the United States without a permit, and failing to comply with certain provisions of the CGP. Pursuant to the proposed Consent Decree, the Defendants will pay $474,240 in civil penalties and perform a supplemental environmental project valued at $32,000.

The Department of Justice will receive for a period of 30 days from the date of this publication comments relating to the proposed Consent Decree. Comments should be addressed to the Assistant Attorney General of the Environment and Natural Resources Division, Department of Justice, Washington, DC 20530, and should refer to United States of America v. International Hospitality Associates, S. en C. por A. (SE.) and International Hotel Associates, Inc., Civil Action No. 3:11-cv-02200, D.J. Ref. 90-5-1-1-09303.

Comments should be addressed to the Assistant Attorney General, Environment and Natural Resources Division, and either emailed to pubcomment-ees.enrd@usdoj.gov or mailed to P.O. Box 7611, U.S. Department of Justice, Washington, DC 20044-7611, and should refer to United States of America v. International Hospitality Associates, S. en C. por A. (SE.) and International Hotel Associates, Inc., Civil Action No. 3:11-cv-02200, D.J. Ref. 90-5-1-1-09303.

During the public comment period, the Consent Decree may also be examined on the following Department of Justice Web site to: http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-1547. In requesting a copy from the Consent Decree Library, please enclose a check in the amount of $10.25 (25 cents per page reproduction costs of the Consent Decree) payable to the U.S. Treasury or, if by email or fax, forward a check in that amount to the Consent Decree Library at the stated address.

Maureen Katz,
Assistant Chief, Environmental Enforcement Section, Environment and Natural Resources Division.

[FR Doc. 2012-407 Filed 1-11-12; 8:45 am]

BILLING CODE 4410-15-P